DEPARTMENT OF ENERGY

Federal Energy Regulatory Commission

Combined Notice of Filings #1

Take notice that the Commission received the following exempt wholesale generator filings:

Docket Numbers: EG19-96-000.

Applicants: Wildhorse Wind Energy, LLC.

Description: Notice of Self-Certification of Exempt Wholesale Generator Status of Wildhorse Wind Energy, LLC.

Filed Date: 5/8/19.

Accession Number: 20190508-5128.

Comments Due: 5 p.m. ET 5/29/19.

Take notice that the Commission received the following electric rate filings:

Docket Numbers: ER10-2042-030; ER10-1942-022; ER17-696-010; ER10-1938-025; ER10-1934-024; ER10-1893-024; ER10-3051-029; ER10-2985-028; ER10-3049-029; ER11-4369-009; ER16-2218-009; ER10-1862-024; ER10-1865-010.

Applicants: Calpine Energy Services, L.P., Calpine Construction Finance Company, LP, Calpine Energy Solutions, LLC, Calpine Power America—CA, LLC, CES Marketing IX, LLC, CES Marketing X, LLC, Champion Energy, LLC, Champion Energy Marketing LLC, Champion Energy Services, LLC, North American Power and Gas, LLC, North American Power Business, LLC, Power Contract Financing, L.L.C., South Point Energy Center, LLC.

Description: Notification of Change in Status of the Indicated Calpine MBR Sellers.

Filed Date: 5/8/19.

Accession Number: 20190508-5130.

Comments Due: 5 p.m. ET 5/29/19.

Docket Numbers: ER19-105-003.

Applicants: PJM Interconnection, L.L.C.

Description: Compliance filing: Compliance Filing Pursuant to Commission's 4/15/19 Order to be effective 1/17/2019.

Filed Date: 5/9/19.

Accession Number: 20190509-5020.

Comments Due: 5 p.m. ET 5/30/19.

Docket Numbers: ER19-1498-001.

Applicants: AEP Texas Inc.

Description: Tariff Amendment: AEPTX-Pedernales EC IA First Amend & Restated Amendment to be effective 3/13/2019.

Filed Date: 5/9/19.

Accession Number: 20190509-5035.

Comments Due: 5 p.m. ET 5/30/19.

Docket Numbers: ER19-1806-000.

Applicants: Mitsui Bussan Commodities, Ltd.

Description: Compliance filing: Application for Market Based Rate to be effective 8/19/2019.

Filed Date: 5/8/19.

Accession Number: 20190508-5111.

Comments Due: 5 p.m. ET 5/29/19.

Docket Numbers: ER19-1807-000.

Applicants: PacifiCorp.

Description: Tariff Cancellation: Termination of Invenergy Solar E&P Agreement to be effective 7/29/2019.

Filed Date: 5/8/19.

Accession Number: 20190508-5112.

Comments Due: 5 p.m. ET 5/29/19.

Docket Numbers: ER19-1808-000.

Applicants: Midcontinent Independent System Operator, Inc., American Electric Power Service Corporation.

Description: § 205(d) Rate Filing: 2019-05-09_Rate Schedule 53_Duke IMTCo Revenue Distribution Agreement to be effective 6/1/2019.

Filed Date: 5/9/19.

Accession Number: 20190509-5019.

Comments Due: 5 p.m. ET 5/30/19.

Docket Numbers: ER19-1809-000.

Applicants: Southwestern Electric Power Company.

Description: § 205(d) Rate Filing: SWEPCO-Bentonville POD#8 DPA Cancellation to be effective 5/1/2019.

Filed Date: 5/9/19.

Accession Number: 20190509-5034.

Comments Due: 5 p.m. ET 5/30/19.

Docket Numbers: ER19-1810-000.

Applicants: PJM Interconnection, L.L.C.

Description: § 205(d) Rate Filing: Original ISA, SA No. 5361; Queue No. AB2-099 to be effective 4/9/2019.

Filed Date: 5/9/19.

Accession Number: 20190509-5050.

Comments Due: 5 p.m. ET 5/30/19.

Docket Numbers: ER19-1811-000.

Applicants: Southern California Edison Company.

Description: § 205(d) Rate Filing: GIA Tulare Solar 5 Project SA No. 1079 to be effective 5/10/2019.

Filed Date: 5/9/19.

Accession Number: 20190509-5051.

Comments Due: 5 p.m. ET 5/30/19.

Docket Numbers: ER19-1812-000.

Applicants: CED Wistaria Solar, LLC.

Description: § 205(d) Rate Filing: Filing of a Certificate of Concurrence to be effective 5/8/2019.

Filed Date: 5/9/19.

Accession Number: 20190509-5052.

Comments Due: 5 p.m. ET 5/30/19.

Docket Numbers: ER19-1813-000.

Applicants: CED Wistaria Solar, LLC.

Description: § 205(d) Rate Filing: Filing of a Certificate of Concurrence to be effective 5/8/2019.

Filed Date: 5/9/19.

Accession Number: 20190509-5079.

Comments Due: 5 p.m. ET 5/30/19.

Docket Numbers: ER19-1814-000.

Applicants: PJM Interconnection, L.L.C.

Description: § 205(d) Rate Filing: Original ISA SA No. 5359; Queue No. AB1-141/AB1-142 to be effective 4/9/2019.

Filed Date: 5/9/19.

Accession Number: 20190509-5081.

Comments Due: 5 p.m. ET 5/30/19.

Docket Numbers: ER19-1815-000.

Applicants: Southern California Edison Company.

Description: Tariff Cancellation: Cancel Letter Agmt Southern California Renewable Partners—Vision Wind Project to be effective 3/21/2019.

Filed Date: 5/9/19.

Accession Number: 20190509-5083.

Comments Due: 5 p.m. ET 5/30/19.

Docket Numbers: ER19-1816-000.

Applicants: Pacific Gas and Electric Company.

Description: § 205(d) Rate Filing: TO Tariff Revision to Formula Capital Structure Calculation to be effective 7/8/2019.

Filed Date: 5/9/19.

Accession Number: 20190509-5084.

Comments Due: 5 p.m. ET 5/30/19.

Docket Numbers: ER19-1817-000.

Applicants: Virginia Electric and Power Company.

Description: Compliance filing: Informational Filing—Amend PPA with Birchwood Power Partners, L.P. to be effective N/A.

Filed Date: 5/9/19.

Accession Number: 20190509-5105.

Comments Due: 5 p.m. ET 5/30/19.

Take notice that the Commission received the following electric securities filings:

Docket Numbers: ES19-29-000.

Applicants: Golden Spread Electric Cooperative, Inc.

Description: Application under Section 204 of the Federal Power Act for Continue Authorization to Issue Securities of Golden Spread Electric Cooperative, Inc.

Filed Date: 5/9/19.

Accession Number: 20190509-5056.

Comments Due: 5 p.m. ET 5/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2019.
Kimberly D. Bose,
Secretary.

[FR Doc. 2019-10045 Filed 5-14-19; 8:45 am]

BILLING CODE 6717-01-P